NATIONAL SCIENCE FOUNDATION

NSF-NASA Astronomy & Astrophysics Advisory Committee (13883); Notice of Meeting

In accordance with the Federal Advisory Committee Act (Pub. L. 92-463, as amended), the National Science Foundation announces the following:

Name: NSF-NASA—Astronomy & Astrophysics Advisory Committee.

Date and Time: November 3, 2003, 11 a.m.-3 p.m.

PLACE: National Science Foundation, 4201 Wilson Blvd, Arlington, VA 22230, by telecom.

Type of Meeting: Open.

Contact Person: Dr. G. Wayne Van Citters, Director, Division of Astronomical Sciences, Suite 1045, National Science Foundation, 4201 Wilson Blvd., Arlington, VA 22230. Telephone: 703-292-4908.

Purpose of Meeting: To provide advice and recommendations to the National Science Foundation (NSF) and the National Aeronautics and Space Administration (NASA) on issues within the field of astronomy and astrophysics that are of mutual interest and concern to the two agencies.

Agenda: To hear presentations of current programming by representatives from NSF and NASA; to discuss current and potential areas of cooperation between the two agencies; to formulate recommendations for continued and new areas of cooperation and mechanisms for achieving them.

Dated: October 7, 2003.
Susanne E. Bolton,
Committee Management Officer.

[FR Doc. 03-25834 Filed 10-10-03; 8:45 am]

BILLING CODE 7555-01-M